DEPARTMENT OF COMMERCE

National Oceanic and Atmospheric Administration

Proposed Amendment to the Puerto Rico Coastal Zone Management Program

AGENCY: National Oceanic and Atmospheric Administration (NOAA), Office for Coastal Management, National Ocean Service, Department of Commerce.

ACTION: Availability of program change submission in Spanish; extension of comment period.

SUMMARY: The National Oceanic and Atmospheric Administration's (NOAA) Office for Coastal Management is announcing the availability of a Spanish language version of analysis documents submitted by the Commonwealth of Puerto Rico supporting a request for approval of changes to the Puerto Rico Coastal Zone Management Program (PRCZMP), and an extension of the public review and comment period on the program changes.

ADDRESSES: Please send written comments to Joelle Gore, Stewardship Division Chief (Acting), NOAA Office for Coastal Management, NOS/OCM/SD, 1305 East-West Highway, 10th Floor, Room 10622, N/OCM6, Silver Spring, Maryland 20910, or Joelle.Gore@noaa.gov.

FOR FURTHER INFORMATION CONTACT: Jackie Rolleri, at Jackie.Rolleri@noaa.gov.

SUPPLEMENTARY INFORMATION:

Background

On July 17, 2015, the Office for Coastal Management published a Federal Register Notice soliciting comments on a request by the Commonwealth of Puerto Rico for approval of changes to the PRCZMP (80 FR 42479 (July 17, 2015)). The Federal Register notice included a notice of a September 2, 2015, public hearing on the program changes.

At the September 2, 2015, public hearing, requests were made by members of the public to have a Spanish language version of the program change analysis documents submitted by the Commonwealth in support of the requested approval, along with an extension of the comment period on the program changes. The Commonwealth has translated the analysis documents and made it available for public review and comment on its Web site under the heading “Solicitud de aprobación de cambios al Programa.” The documents may be found at: http://www.drna.gobierno.pr/oficinas/arn/recursosvivientes/costasreservasrefugios/pmzc/Cambios-rutinarios-PMZC.

Written comments from the public on the Commonwealth's request for approval of changes to the PRCZMP will continue to be accepted through 30 days from the date of publication of this Federal Register notice.

Comments should address the question of whether the PRCZMP, as changed, continues to meet the requirements for approval to participate in the federal Coastal Zone Management Program as described in section 306 of the federal Coastal Zone Management Act, and its implementing regulations at 15 CFR part 923. NOAA is particularly interested in comments addressing the requirements for the authorities and organization of coastal management programs found at 15 CFR part 923, subpart E, and opportunities for meaningful public participation in the decision-making process for the program under 15 CFR part 923, subpart F. Comments regarding implementation issues should be specific to how the changes to the program have affected implementation.

Federal Domestic Assistance Catalog 11.419 Coastal Zone Management Program Administration

Dated: October 14, 2015.
John King,
Deputy Director, Office for Coastal Management, National Ocean Service, National Oceanic and Atmospheric Administration.

[FR Doc. 2015-26840 Filed 10-21-15; 8:45 am]

BILLING CODE 3510-08-P